DEPARTMENT OF HOMELAND SECURITY

Federal Emergency Management Agency

[Docket ID FEMA-2021-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of August 10, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Manatee County, Florida and Incorporated Areas
Docket No.: FEMA-B-1950
City of Anna Maria | City Hall Annex, 307 Pine Avenue, Anna Maria, FL 34216.
City of Bradenton | City Hall, 101 Old Main Street West, Bradenton, FL 34205.
City of Bradenton Beach | City Hall, 107 Gulf Drive North, Bradenton Beach, FL 34217.
City of Holmes Beach | City Hall, 5801 Marina Drive, Holmes Beach, FL 34217.
City of Palmetto | Building Department, 601 17th Street West, Palmetto, FL 34221.
Town of Longboat Key | Town Hall, 501 Bay Isles Road, Longboat Key, FL 34228.
Unincorporated Areas of Manatee County | Manatee County Building and Development Services Department, 1112 Manatee Avenue West, 4th Floor, Bradenton, FL 34205.
Warren County, Illinois and Incorporated Areas
Docket No.: FEMA-B-2028
City of Monmouth | City Hall, 100 East Broadway, Monmouth, IL 61462.
Unincorporated Areas of Warren County | Warren County Courthouse, 100 West Broadway, Monmouth, IL 61462.
Village of Alexis | Village Hall, 204 South Main Street, Alexis, IL 61412.
Village of Kirkwood | Village Hall, 120 West Cedar Street, Kirkwood, IL 61447.
Village of Little York | Village Hall, 401 West Main Street, Little York, IL 61453.
Village of Roseville | Village Hall, 185 West Penn Avenue, Roseville, IL 61473.
Dubuque County, Iowa and Incorporated Areas
Docket No.: FEMA-B-1910 and FEMA-B-2033
City of Asbury | City Hall, 5290 Grand Meadow Drive, Asbury, IA 52002.
City of Bernard | City Hall, 549 Leffler Street, Bernard, IA 52032.
City of Cascade | City Hall, 320 1st Avenue West, Cascade, IA 52033.
City of Dubuque | City Hall, 50 West 13th Street, Dubuque, IA 52001.
City of Durango | City Hall, 833 U.S. Highway 52 North, Durango, IA 52039.
City of Dyersville | City Hall, 340 1st Avenue East, Dyersville, IA 52040.
City of Epworth | City Hall, 191 Jacoby Drive East, Epworth, IA 52045.
City of Farley | City Hall, 114 First Street North, Farley, IA 52046.
City of Graf | Graf City Clerk's Office, 10294 Emberwood Drive, Dubuque, IA 52001.
City of Luxemburg | City Hall, 202 South Andres Street, Luxemburg, IA 52056.
City of New Vienna | City Hall, 7271 Columbus Street, New Vienna, IA 52065.
City of Peosta | Community Centre, 7896 Burds Road, Peosta, IA 52068.
City of Rickardsville | City Hall, 20494 St. Joseph's Drive, Rickardsville, IA 52039.
City of Sageville | Sageville City Clerk's Office, 31626 Olde Castle Road, Dyersville, IA 52040.
City of Worthington | City Hall, 216 1st Avenue West, Worthington, IA 52078.
City of Zwingle | City Hall, 80 Walnut Street, Zwingle, IA 52079.
Unincorporated Areas of Dubuque County | Dubuque County Courthouse, 720 Central Avenue, Dubuque, IA 52001.
Ellsworth County, Kansas and Incorporated Areas
Docket No.: FEMA-B-2014
City of Holyrood | City Hall, 116 South Main Street, Holyrood, KS 67450.
City of Lorraine | City Hall, 238 Main Street, Lorraine, KS 67459.
Unincorporated Areas of Ellsworth County | Ellsworth County Courthouse, 210 North Kansas Avenue, Ellsworth, KS 67439.
Sanilac County, Michigan (All Jurisdictions)
Docket No.: FEMA-B-2009
Township of Delaware | Delaware Township Hall, 7979 Maple Grove Road, Minden City, MI 48456.
Township of Forester | Forester Township Hall, 2470 North Lakeshore Road (M-25), Deckerville, MI 48427.
Township of Lexington | Township Hall, 7227 Huron Avenue, Suite 200, Lexington, MI 48450.
Township of Sanilac | Sanilac Township Hall, 20 North Ridge Street, Port Sanilac, MI 48469.
Township of Worth | Worth Township Hall, 6903 South Lakeshore Road, Lexington, MI 48450.
Village of Forestville | Village Hall, 5605 Cedar Street, Forestville, MI 48434.
Village of Lexington | Village Hall, 7227 Huron Avenue, Suite 100, Lexington, MI 48450.
Village of Port Sanilac | Village Hall, 56 North Ridge Street, Port Sanilac, MI 48469.

[FR Doc. 2021-08701 Filed 4-26-21; 8:45 am]

BILLING CODE 9110-12-P